DEPARTMENT OF THE INTERIOR

National Park Service

Notice of Inventory Completion: UCLA Fowler Museum of Cultural History, University of California, Los Angeles, Los Angeles, CA, and Department of Anthropology, San Francisco State University, San Francisco, CA

AGENCY: National Park Service, Interior.

ACTION: Notice.

Notice is here given in accordance with the Native American Graves Protection and Repatriation Act (NAGPRA), 25 U.S.C. 3003, Sec. 5, of the completion of an inventory of human remains in the possession of the UCLA Fowler Museum of Cultural History, University of California, Los Angeles, Los Angeles, CA, and in the control of the Department of Anthropology, San Francisco State University, San Francisco, CA. These human remains were removed from a site in Stanislaus County, CA.

This notice is published as part of the National Park Service’s administrative responsibilities under NAGPRA, 25 U.S.C. 3003, Sec. 5 (d)(3). The determinations within this notice are the sole responsibility of the museum, institution, or Federal agency that has control of these Native American human remains. The National Park Service is not responsible for the determinations within this notice.

A detailed assessment of the human remains was made by the Department of Anthropology, San Francisco State University professional staff in consultation with representatives of the Central Valley and Mountain Reinterment Association on behalf of the Santa Rosa Indian Community of the Santa Rosa Rancheria, California, and by UCLA Fowler Museum of Cultural History professional staff.

Around 1962, human remains representing a minimum of three individuals were removed from CA-STA-133, a site near Patterson, CA. Collections documentation indicates that the site was recorded in 1962 by Leonard Foote and that the remains were removed during archeological survey and excavations conducted by San Francisco State University students. No known individuals were identified. No funerary objects are present.

Human remains representing two of the three individuals from CA-STA-133 were included in a Notice of Inventory Completion published in the Federal Register on December 22, 2000 (FR Doc. 00-32662, pages 80959-8096), by the Department of Anthropology, San Francisco State University and were subsequently repatriated to the Central Valley and Mountain Reinterment Association on behalf of the Santa Rosa Indian Community of the Santa Rosa Rancheria, California. In August 2002, the UCLA Fowler Museum of Cultural History informed the Department of Anthropology at San Francisco State University that among their collections were Native American human remains representing a minimum of one individual from site CA-STA-133. These human remains were never accessioned and are assumed to have been left there by Leonard Foote who was associated with the University of California, Los Angeles, Department of Anthropology for a period some time after 1962.

This individual is identified as Native American based on geographic and oral history evidence. The site is located in the historic territory of the Northern Valley Yokuts Indians. Oral history evidence presented during consultation indicates that there is an association between the Yokuts and the present-day Santa Rosa Indian Community of the Santa Rosa Rancheria, California.

Officials of the Department of Anthropology, San Francisco State University have determined that, pursuant to 25 U.S.C. 3001, Sec. 2 (9-10), the human remains listed above represent the physical remains of one individual of Native American ancestry. Officials of the Department of Anthropology, San Francisco State University also have determined that, pursuant to 25 U.S.C. 3001, Sec. 2(2), there is a relationship of shared group identity that can be reasonably traced between these Native American human remains and the Santa Rosa Indian Community of the Santa Rosa Rancheria, California.

Representatives of any other Indian tribe that believes itself to be culturally affiliated with these human remains should contact Jeff Fentress, NAGPRA Coordinator, Department of Anthropology, San Francisco State University, 1600 Holloway Avenue, San Francisco, CA 94132, telephone (415) 338-2046, before April 14, 2003. Repatriation of the human remains to the Central Valley and Mountain Reinterment Association on behalf of the Santa Rosa Indian Community of the Santa Rosa Rancheria, California may proceed after that date if no additional claimants come forward.

The Department of Anthropology, San Francisco State University is responsible for notifying the Central Valley and Mountain Reinterment Association and the Santa Rosa Indian Community of the Santa Rosa Rancheria, California that this notice has been published.

Dated: February 19, 2003.
John Robbins,
Assistant Director, Cultural Resources Stewardship and Partnerships.

[FR Doc. 03-6217 Filed 3-13-03; 8:45 am]

BILLING CODE 4310-70-S